DEPARTMENT OF TRANSPORTATION

Federal Motor Carrier Safety Administration

[Docket No. FMCSA-2020-0111]

Agency Information Collection Activities; Revision of an Approved Information Collection: Renewal of Practices of Household Goods Brokers

AGENCY: Federal Motor Carrier Safety Administration (FMCSA), U.S. Department of Transportation (DOT).

ACTION: Notice and request for comments.

SUMMARY: In accordance with the Paperwork Reduction Act of 1995, FMCSA announces its plan to submit the information collection request (ICR) renewal described below to the Office of Management and Budget (OMB) for its review and approval and invites the public to comment. FMCSA requests OMB's renewed approval to the ICR titled “Practices of Household Brokers” to keep compliance with 49 CFR part 371. This renewal updates wage related costs that have changed since the last approval and revises the previous information collection total respondent hourly and cost burden methodology to be consistent with best practices. This ICR renewal is necessary to support the requirements of subpart B of 49 CFR part 371 and FMCSA's responsibility to ensure consumer protection in the transportation of household goods (HHG).

DATES: We must receive your comments on or before November 9, 2020.

ADDRESSES: You may submit comments identified by Federal Docket Management System (FDMS) Docket Number FMCSA-2020-0111 using any of the following methods:

• Federal eRulemaking Portal: http://www.regulations.gov. Follow the online instructions for submitting comments.

• Fax: 1-202-493-2251

• Mail: Docket Operations; U.S. Department of Transportation, 1200 New Jersey Avenue SE, West Building, Ground Floor, Room W12-140, Washington, DC 20590-0001.

• Hand Delivery or Courier: U.S. Department of Transportation, 1200 New Jersey Avenue SE, West Building, Ground Floor, Room W12-140, Washington, DC 20590-0001 between 9 a.m. and 5 p.m. Eastern Time, Monday through Friday, except Federal holidays.

Instructions: All submissions must include the agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov and follow the online instructions for accessing the dockets, or go to the street address listed above.

Privacy Act: In accordance with 5 U.S.C. 553(c), DOT solicits comments from the public. DOT posts these comments, without edit, including any personal information the commenter provides, to www.regulations.gov, as described in the system of records notice (DOT/ALL-14 FDMS), which can be reviewed at www.dot.gov/privacy.

Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Monique Riddick, Commercial Enforcement and Investigations Division, U.S. Department of Transportation, Federal Motor Carrier Safety Administration, West Building 6th Floor MC-ECC, 1200 New Jersey Avenue SE, Washington, DC 20590-0001. Telephone: 202-366-8045; email monique.riddick@dot.gov.

SUPPLEMENTARY INFORMATION: Background: As a result of Title IV, Subtitle B of the Safe, Accountable, Flexible, Efficient, Transportation Equity Act: A Legacy for Users (SAFETEA-LU) (Pub. L. 109-59) and a petition for rulemaking from the American Moving and Storage Association (AMSA), FMCSA amended then-existing regulations for brokers in a final rule titled, “Brokers of Household Goods Transportation by Motor Vehicles,” (75 FR 72987, Nov. 29, 2010), amending 49 CFR part 371 by providing additional consumer protection responsibilities for brokers of HHG.

Section 4212 of SAFETEA-LU, directs the DOT Secretary to require HHG brokers to provide shippers with information throughout the various stages of their interactions with shippers. The following phases summarize the information collection required by the HHG broker at the various contractual stages by 49 CFR 371.

I. First Phase: “Prospecting”

When a HHG shipper is looking to procure a HHG broker's services, the broker must collect the following information and display it on its websites and solicitation materials:

• Its physical address (371.107a);

• Its U.S. DOT license numbers (371.107b);

• A statement indicating it will not transport the shipper's goods but will only arrange for goods to be transported by a registered motor carrier (371.107c);

• If the broker chooses to publish rates on its website or solicitation materials, the broker must also publish a statement that the rates are based on a motor carrier's publicly available rates (371.107d);

• If broker chooses to publish a list of motor carriers it works with, the list must be a list only of carriers with which brokers have agreements (371.107e); and

• Brokers must publish information regarding their cancellation policies, including information on deposits and refunds (371.117a).

For the exact text of regulations see section 12 part I of this document.

II. Second Phase: “Contact”

When an HHG shipper makes a reasonable request seeking additional information about broker services, the HHG broker must collect the following information and distribute it to the HHG shipper:

• A list of carriers it has agreements with (371.109a); and

• A statement indicating the broker is not a carrier and that the broker is only arranging transportation of shipper's goods (371.109b).

For the exact text of regulations see Section 12 Part II.

III. Third Phase: “Estimate”

When an HHG shipper requests an estimate, the broker must collect the following information and provide it to the shipper:

• FMCSA's published information material: (1) “Ready to Move? Tips for a Successful Interstate Move” and (2) “Your Rights and Responsibilities When You Move (2013 Update)” (371.111a1, 2, & 3);

• A written estimate based on a physical survey of household items (371.113a) and published carrier rates (371.113b); and

• If applicable, a “Waiver” receipt showing shipper waived their right to a physical survey of their household items (371.113b).

The broker must obtain a signed document showing that FMCSA's published information material was received by the shipper (371.111c). For the exact text of regulations see section 12 part III.

IV. Fourth Phase: “Agreement”

Should the shipper find the estimate(s) and broker services reasonable and wish to book the broker's services, the two parties must enter into an agreement. At this point it is standard practice for shippers to pay a deposit or full payment. Before a deposit is collected the broker must collect the following information and distribute it to the HHG shipper:

• An agreement document with required specifications as laid out by regulation 371.115; and

• An agreement document which highlights the broker's and/or motor carrier's refund policy for cancelation of agreements (371.117a).

For the exact text of regulations see section 12 part IV.

V. Fifth Phase: “Delivery”

After the broker confirms delivery of the household goods by the carrier, the broker must collect the following information and distribute it to the HHG shipper:

• A receipt with transaction data, including cancelation details if the agreement was canceled as laid out by 49 CFR 371.3.

The complete collection of information required by the referenced final rule assists shippers in their business dealings with interstate HHG brokers. The information collected is used by prospective shippers to make informed decisions about contracts, services ordered, executed, and settled. The HHG broker is often the primary contact for individual shippers and in the best position to educate shippers and prepare them for a successful move. The information collection is intended to combat deceptive business practices; the information helps enforcement personnel better protect consumers by verifying that shippers are receiving information as required by regulations.

FMCSA revises the total annual burden to 153,758 hours. This is an increase of 83,673 annual burden hours from the currently approved 70,085 burden estimate. The increase is due to the following:

1(a) the previous information collections did not include the broker's time to complete physical surveys of shippers household goods, and 1(b) the time to prepare a written estimate based off a physical survey as required by 49 CFR 371.113(a).

(2) The previous iteration did not account for the hours brokers spend to complete a waiver, if applicable, as required by 49 CFR 371.113(c)(1), (c)(2), & (c)(3).

(3) The previous iteration did not clarify a frequency formula used to calculate the number of times brokers collect and submit information to shippers.

(4) FMCSA's records for household goods brokers increased from 543 brokers to 652 brokers.

For this renewal, FMCSA updated the methodology to reflect best practices, which resulted in the annual burden increase.

Title: Practices of Household Goods Brokers.

OMB Control Number: 2126-0048.

Type of Request: Renewal of currently approved collection.

Respondents: Brokers of Household Goods.

Estimated Number of Respondents: 5,216 [Phase I (652); + Phase II: (652 + 652); + Phase III (652 + 652 +652); + Phase IV (652); + Phase V (652) = 600,492].

Estimated Number of Responses: 600,492 responses [Phase I (3,260); + Phase II: (3,260 + 200,816); + Phase III (3,260 + 125,836 + 63,244); + Phase IV (100, 408); + Phase V (100, 408) = 600,492].

Estimated Time per Response: 0.26 hours or 15.37 minutes [total burden hours (153,758) divided by total number of responses (600,492).

Expiration Date: January 31, 2021.

Frequency of Response: On occasion.

Estimated Total Annual Burden: 153,758 hours.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The agency will summarize or include your comments in the request for OMB's clearance of this information collection.

Issued under the authority of 49 CFR 1.87.
Kenneth Riddle,
Acting Associate Administrator, Office of Research and Registration.

[FR Doc. 2020-19807 Filed 9-4-20; 8:45 am]

BILLING CODE 4910-EX-P